Executive Order 14252 of March 27, 2025

Making the District of Columbia Safe and Beautiful

By the authority vested in me as President by the Constitution and the laws of the United States of America, it is hereby ordered:

Section 1. Purpose. As the Federal capital city, Washington, D.C., is the only city that belongs to all Americans and that all Americans can claim as theirs. As the capital city of the greatest Nation in the history of the world, it should showcase beautiful, clean, and safe public spaces.

America's capital must be a place in which residents, commuters, and tourists feel safe at all hours, including on public transit. Its highways, boulevards, and parks should be clean, well-kept, and pleasant. Its monuments, museums, and buildings should reflect and inspire awe and appreciation for our Nation's strength, greatness, and heritage. Our citizens deserve nothing less.

Sec. 2. Policy. It is the policy of the United States to make the District of Columbia safe, beautiful, and prosperous by preventing crime, punishing criminals, preserving order, protecting our revered American monuments, and promoting beautification and the preservation of our history and heritage.

Sec. 3. Making the District of Columbia Safe by Fighting Crime. (a) My Administration shall work closely with local officials to share information, develop joint priorities, and maximize resources to make the District of Columbia safe. Such coordination shall occur through the D.C. Safe and Beautiful Task Force (Task Force), which is hereby established by this order. The Task Force shall be chaired by the Assistant to the President and Homeland Security Advisor or his designee, and shall otherwise include representatives from the following departments, agencies, or components, selected as such department, agency, or component determines:

(i) the Department of the Interior;

(ii) the Department of Transportation;

(iii) the Department of Homeland Security;

(iv) the Federal Bureau of Investigation;

(v) the United States Marshals Service;

(vi) the Bureau of Alcohol, Tobacco, Firearms and Explosives;

(vii) the United States Attorney's Office for the District of Columbia;

(viii) the United States Attorney's Office for the District of Maryland; and

(ix) the United States Attorney's Office for the Eastern District of Virginia.

The Chairman of the Task Force may also select other departments, agencies, or components to participate as he deems necessary. Representatives of such other departments, agencies, or components shall be selected as such department, agency, or component determines.

(b) The Task Force may, to the extent permitted by law, request operational assistance from and coordinate with the Metropolitan Police Department of the District of Columbia (MPD), Washington Metropolitan Area Transit Authority, United States Park Police, Amtrak Police, and other Federal and local officials as appropriate.

(c) The Task Force shall coordinate to ensure effective Federal participation in the following tasks:

(i) directing maximum enforcement of Federal immigration law and redirecting available Federal, State, or local law enforcement resources to apprehend and deport illegal aliens in the Washington, D.C. metropolitan area;

(ii) monitoring the District of Columbia's sanctuary-city status and compliance with the enforcement of Federal immigration law;

(iii) providing assistance to facilitate the prompt and complete accreditation of the District of Columbia's forensic crime laboratory;

(iv) in collaboration with its leadership and union, providing MPD with assistance to facilitate the recruitment, retention, and capabilities of its police officers and to facilitate work with Federal personnel, resources, and expertise to reduce crime;

(v) collaborating with appropriate local government entities to provide assistance to increase the speed and lower the cost of processing concealed carry license requests in the District of Columbia;

(vi) reviewing and, as appropriate, revising Federal prosecutorial policies on seeking pretrial detention of criminal defendants to ensure that individuals who pose a genuine threat to public safety are detained to the maximum extent permitted by law;

(vii) collaborating with appropriate local government entities to provide assistance to end fare evasion and other crime within the Washington Metropolitan Area Transit Authority system; and

(viii) deploying a more robust Federal law enforcement presence and coordinating with local law enforcement to facilitate the deployment of a more robust local law enforcement presence as appropriate in areas in or about the District of Columbia, including in such areas as the National Mall and Memorial Parks, museums, monuments, Lafayette Park, Union Station, Rock Creek Park, Anacostia Park, the George Washington Memorial Parkway, the Suitland Parkway, and the Baltimore-Washington Parkway, and ensuring that all applicable quality of life, nuisance, and public-safety laws are strictly enforced, such as those prohibiting assault, battery, larceny, graffiti and other vandalism, unpermitted disturbances and demonstrations, noise, trespassing, public intoxication, drug possession, sale, and use, and traffic violations, including as prescribed by Executive Order 13933 of June 26, 2020 (Protecting American Monuments, Memorials, and Statues and Combating Recent Criminal Violence), which was reinstated by Executive Order 14189 of January 29, 2025 (Celebrating America's 250th Birthday).

(d) The Task Force shall report to me as necessary through the Assistant to the President and Homeland Security Advisor regarding safety in the District of Columbia, and the tasks set forth in subsection (c) of this section. As part of this reporting, the Attorney General, in consultation with the Task Force, shall assess whether public-safety circumstances in the District of Columbia require additional executive action.

Sec. 4. Making the District of Columbia Beautiful. (a) The Secretary of the Interior, in consultation with the Attorney General, the Secretary of Transportation, the United States Attorney for the District of Columbia, the Administrator of General Services, the National Capital Planning Commission, and the heads of such other executive departments or agencies and local officials as the Secretary of the Interior deems appropriate, shall develop and implement a program to beautify and make safe and prosperous the District of Columbia.

(b) The program under subsection (a) of this section shall include, at a minimum, the following elements as appropriate and consistent with applicable law:

(i) a coordinated beautification plan for Federal and local facilities, monuments, land, parks, and roadways in and around the District of Columbia;

(ii) restoration of Federal public monuments, memorials, statues, markers, or similar properties that have been damaged or defaced, or inappropriately removed or changed, in recent years;

(iii) removal of graffiti from commonly visited areas, with local assistance;

(iv) proposals to ensure Federal buildings or lands adequately uplift and beautify public spaces and generate in the citizenry pride in and respect for our Nation;

(v) a coordinated Federal and local approach to ensure the cleanliness of public spaces, sidewalks, parks, highways, roads, and transit systems in and around the District of Columbia; and

(vi) the encouragement of private-sector participation in coordinated beautification and clean-up efforts in the District of Columbia.

(c) The Secretary of the Interior shall immediately issue a directive to the National Park Service requiring prompt removal and cleanup of all homeless or vagrant encampments and graffiti on Federal land within the District of Columbia subject to the National Park Service's jurisdiction, to the maximum extent permitted by law.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 27, 2025.

[FR Doc. 2025-05837

Filed 4-2-25; 8:45 am]

Billing code 3395-F4-P